DEPARTMENT OF TRANSPORTATION

Federal Highway Administration

Environment Impact Statements: Counties of Jefferson, St. Clair, and Mobile, AL

AGENCY: Federal Highway Administration (FHWA), DOT.

ACTION: Rescind Notice of Intent.

SUMMARY: The FHWA is issuing this notice to advise the public that two Notices of Intent are being rescinded; the first published on August 2, 2006, to prepare an Environmental Impact Statement (EIS) for a proposed highway project in Jefferson and St. Clair Counties, Alabama is being rescinded; and the second published on July 27, 1995, to prepare an EIS for a proposed highway project in Mobile County, Alabama is being rescinded.

FOR FURTHER INFORMATION CONTACT: Mr. Mark D. Bartlett, Division Administrator, Federal Highway Administration, Alabama Division Office, 500 Eastern Blvd., Suite 200, Montgomery, AL 36117-2018, Telephone: (334) 223-7370.

SUPPLEMENTARY INFORMATION: The FHWA is rescinding the notice of intent to prepare an EIS for Federal-aid Project STPAA-PE00(6). The proposed project would have involved an extension of the Birmingham Northern Beltline from Interstate 59 in Trussville, Jefferson County, to Interstate 20 in the vicinity of Leeds, St. Clair County, Alabama, for a distance of about 10 miles. The project is being rescinded since the Alabama Department of Transportation has decided not to pursue this project at this time. When this project is reinitiated, additional alignments may be considered.

The FHWA is rescinding the notice of intent to prepare an EIS on a proposal to construct a multi-lane roadway from the intersection of Schillinger Road and Lott Road to U.S. Highway 45 in Mobile, Alabama. The project is being rescinded since the Alabama Department of Transportation has decided not to pursue this project at this time.

(Catalog of Federal Domestic Assistance Program Number 20.205, Highway Planning and Construction. The regulations implementing Executive Order 12372 regarding intergovernmental consultation on Federal programs and activities apply to this program.)

Dated: March 31, 2008.
Mark D. Bartlett,
Division Administrator, Montgomery.

[FR Doc. E8-7156 Filed 4-4-08; 8:45 am]

BILLING CODE 4910-22-P